DEPARTMENT OF STATE

[Public Notice: 11564]

Review of Foreign Terrorist Organizations Designation for Liberation Tigers of Tamil Eelam

Pursuant to section 219(a)(4)(C) of the Immigration and Nationality Act, as amended (8 U.S.C. 1189(a)(4)(C)), the Department of State is undertaking a review of the designation of the Liberation Tigers of Tamil Eelam as a Foreign Terrorist Organization. In making its determination, the Department of State will accept written statements or other documentary materials submitted on behalf of interested parties and the above-named organization by its representatives. Such materials must be submitted by November 2, 2021, to: The Coordinator for Counterterrorism, United States Department of State, 2201 C Street NW, Washington, DC 20520.

This notice shall be published in the Federal Register.

Dated: October 7, 2021.
John T. Godfrey,
Acting Coordinator for Counterterrorism.

[FR Doc. 2021-22783 Filed 10-19-21; 8:45 am]

BILLING CODE 4710-AD-P